DEPARTMENT OF HEALTH AND HUMAN SERVICES

Agency for Healthcare Research and Quality

Request for Information: AHRQ's Role in Climate Change and Environmental Justice

AGENCY: Agency for Healthcare Research and Quality (AHRQ), HHS.

ACTION: Notice of request for information.

SUMMARY: The Agency for Healthcare Research and Quality (AHRQ) is seeking information from the public on how the agency may have the greatest impact in addressing climate change through its core competencies of health systems research, practice improvement, and data & analytics. Specifically, AHRQ wants to learn how the agency can best use its resources to help build the healthcare system's resilience to climate threats, reduce the healthcare industry's contribution to climate change while increasing sustainability, and address environmental justice issues in healthcare.

DATES: Comments on this notice must be received by December 13, 2021. AHRQ will not respond individually to responders but will consider all comments submitted by the deadline.

ADDRESSES: Please submit all responses via email to ClimateChange@AHRQ.HHS.gov as a Word document or in the body of an email.

FOR FURTHER INFORMATION CONTACT: Brent Sandmeyer, Social Science Analyst, Email: Brent.Sandmeyer@AHRQ.HHS.gov, Telephone: 301-427-1441.

SUPPLEMENTARY INFORMATION: The Agency for Healthcare Research and Quality's mission is to produce evidence to make healthcare safer, higher quality, more accessible, equitable, and affordable, and to work within the U.S. Department of Health and Human Services and with other partners to make sure that the evidence is understood and used.

In pursuit of that mission, AHRQ recognizes that climate change is a large and growing threat to public health and the ability of the U.S. healthcare system to provide high quality, equitable care. Climate change has contributed to heat waves, wildfires, hurricanes, droughts, flooding, and associated infrastructure failures. All of these have detrimental physical and behavioral health consequences and place increased demands on the healthcare system as it also struggles to respond to the COVID-19 pandemic. Both climate change and the COVID-19 pandemic have highlighted and exacerbated long-standing racial, ethnic, and economic health disparities.

AHRQ is seeking the public's input on how the agency may have the greatest impact in addressing climate change through its core competencies of health systems research, practice improvement, and data & analytics. Specifically, AHRQ wants to learn how the agency can best use its resources to help build the healthcare system's resilience to climate threats, reduce the healthcare industry's contribution to climate change while increasing sustainability, and address environmental justice issues in healthcare.

AHRQ is requesting information from the public regarding the following broad questions:

1. What should AHRQ's role be at the intersection of climate change, healthcare, and environmental justice to maximize the agency's impact?

2. How can AHRQ incorporate climate change and environmental justice issues into its core competencies of healthcare systems research, practice improvement, and data & analytics?

3. What are the most pressing healthcare-related areas of climate change and environmental justice research and actions that AHRQ could address? Relatedly, what evidence do healthcare systems and policymakers need to make decisions on responding to climate change?

4. How can AHRQ help healthcare systems prepare for and respond to the impacts of climate change on patient care, especially for vulnerable populations?

5. What role could AHRQ play in identifying, gathering, and disseminating data on climate-related risks and impacts, and making the information timely and easily available for researchers, healthcare systems, and policy makers?

6. What practice improvement resources (e.g., tools, strategies) could AHRQ provide to help healthcare systems improve patient safety and system resiliency during climate-related emergencies?

7. What are the training and education needs of healthcare professionals related to climate change and what role could AHRQ play in addressing those needs?

8. What key research has been conducted to assess or mitigate the impact that healthcare has on climate change? What are effective strategies to measure and reduce the carbon footprint and other environmental impacts of the healthcare sector?

9. What has been learned about health systems' capacity and limitations during the COVID-19 pandemic that can help care delivery organizations better address climate change impacts and reduce disparities?

10. How might AHRQ take advantage of the existing national infrastructure to advance quality and safety (e.g., measurement standards, accrediting bodies, learning networks, incentives) to accelerate work on climate health and equity?

11. Which organizations working on climate change response in healthcare should AHRQ learn from and collaborate with? Please describe the nature of the organization's work, evidence, and solutions, as applicable.

AHRQ is interested in all of the questions listed above, but respondents are welcome to address as many or as few as they choose and to address additional areas of interest not listed.

This RFI is for planning purposes only and should not be construed as a policy, solicitation for applications, or as an obligation on the part of the Government to provide support for any ideas identified in response to it. AHRQ will use the information submitted in response to this RFI at its discretion and will not provide comments to any responder's submission. However, responses to the RFI may be reflected in future solicitation(s) or policies. The information provided will be analyzed and may appear in reports. Respondents will not be identified in any published reports. Respondents are advised that the Government is under no obligation to acknowledge receipt of the information received or provide feedback to respondents with respect to any information submitted. No proprietary, classified, confidential, or sensitive information should be included in your response. The contents of all submissions will be made available to the public upon request. Materials submitted must be publicly available or can be made public.

Dated: October 6, 2021.
Marquita Cullom,
Associate Director.

[FR Doc. 2021-22166 Filed 10-12-21; 8:45 am]

BILLING CODE 4160-90-P